NATIONAL CAPITAL PLANNING COMMISSION

Public Comment on the Draft Federal Urban Design Element of the Comprehensive Plan for the National Capital: Federal Elements

AGENCY: National Capital Planning Commission.

ACTION: Notice of 60-day public comment period.

SUMMARY: The National Capital Planning Commission (NCPC), the Planning Commission for the Federal Government within the National Capital Region, intends to release for public comment a draft new Federal Urban Design Element of the Comprehensive Plan for the National Capital: Federal Elements. The Comprehensive Plan for the National Capital: Federal Elements addresses matters relating to Federal Properties and Federal Interests in the National Capital Region, and provides a decision-making framework for actions the NCPC takes on specific plans and proposals submitted by Federal government agencies for the NCPC review required by law. The new Federal Urban Design Element provides policies that will guide the design and management of federal buildings and properties so as to enhance their adjacent public realm. It will also provide a framework for federal actions related to enhancing the overall character of the District of Columbia and the National Capital Region. All interested parties are invited to submit written comment. The draft Federal Urban Design Element will be available online at http://www.ncpc.gov/urbandesign not later than May 8, 2015. Printed copies are available upon request from the contact person noted below.

DATES: Dates and Time: The public comment period closes on July 10, 2015. A public meeting to discuss the draft revisions to the new Federal Urban Design Element will be held on Monday June 1, 2015 from 6:00 p.m. to 8:00 p.m.

ADDRESSES: Mail written comments or hand deliver comments on the draft revisions to Comprehensive Plan Public Comment, National Capital Planning Commission, 401 9th Street NW., Suite 500, Washington, DC 20004. The public meeting will be held at AIA∣DC 421 7th Street NW., Washington, DC 20004.

FOR FURTHER INFORMATION CONTACT: Dereth Bush at (202) 482-7233 or urbandesign@ncpc.gov.

SUPPLEMENTARY INFORMATION:

Electronic Access and Filing Addresses

You may submit comments electronically at the public comment portal at http://www.ncpc.gov/urbandesign/comment.html.

Authority: (40 U.S.C. 8721(e)(2)).

Dated: May 6, 2015.
Anne R. Schuyler,
General Counsel.

[FR Doc. 2015-11292 Filed 5-8-15; 8:45 am]

BILLING CODE 7520-01-P